DEPARTMENT OF AGRICULTURE

National Institute of Food and Agriculture

Notice of Stakeholder Listening Session Regarding Science Priorities

AGENCY: National Institute of Food and Agriculture, USDA.

ACTION: Notice of Stakeholder Listening Session.

SUMMARY: USDA National Institute of Food and Agriculture announces its stakeholder listening initiative “NIFA Listening Session for Stakeholder Input to Science Priorities.” This stakeholder listening opportunity informs the research, extension and education priorities of NIFA, which has the mission of investing in and advancing agricultural research, education and extension to solve societal challenges. For the purpose of this opportunity, Agriculture is defined broadly and includes research, extension, and education in food, fiber, forestry, range, nutritional and social sciences, including food safety and positive youth development. NIFA's investments in transformative science directly support the long-term prosperity and global pre-eminence of U.S. agriculture.

This effort to obtain input regarding the challenges, needed breakthroughs, and priorities will be carried out through online and virtual submission mechanisms. Stakeholder input received from the two mechanisms is treated equally.

DATES:

Online Input: Submission of online stakeholder input to the target questions will be open upon publishing of this Notice through 5 p.m. Eastern time November 30, 2022.

Virtual Listening Sessions: A full-day listening session will be organized to obtain virtual input from stakeholders throughout the United States, including small institutions, local businesses, and other stakeholder groups. The listening session will take place on November 2, 2022. The session will begin at 8:30 a.m. and is scheduled to end no later than 7 p.m. Eastern Time. The session will include a presentation of the goals and background information on NIFA programs, followed by comments from stakeholders. Each registered speaker will receive 5 minutes to share their comments with the Agency. If time allows after all comments from registered speakers are made, unscheduled speakers will be allowed 5 minutes to present their comments to the Agency. The length of the sessions will be adjusted according to numbers of participants seeking to provide input.

Registration: All parties interested in attending the virtual listening session must RSVP no later than one week prior to the scheduled session. The virtual listening session will be webcast and transcribed. Information about registering for the virtual session, providing written comments and viewing the webcast can be found at https://www.nifa.usda.gov/nifalistens. This website includes instructions on submitting written comments and registering to attend or speak at the virtual listening session. The number of oral commenters is limited due to time and space constraints (see below). Oral commenter slots will be allotted on a first-come, first-served basis. All interested stakeholders, regardless of attendance, are welcome to submit written comments. All parties interested in attending the virtual listening session must RSVP no later than one week prior to the scheduled session they will attend. Abstracts from in-person speakers can be submitted upon registration via https://nifa.usda.gov/nifalistens.

If you need a reasonable accommodation to register for, or participate in, this event, please contact Jessica Creighton, Acting Director of Equal Opportunity and Civil Rights, at Jessica.creighton@usda.gov, or 816-266-6947 no later than October 20, 2022. Language access services, such as interpretation or translation of vital information, will be provided free of charge to individuals with limited English proficiency upon request.

ADDRESSES: The virtual listening session Zoom link isshared upon registration for November 2, 2022. All parties interested in attending the virtual listening session must RSVP no later than one week prior to the scheduled session.

FOR FURTHER INFORMATION CONTACT: Amanda Sahinovic, Financial Policy Specialist, National Institute of Food and Agriculture, U.S. Department of Agriculture; Email: Amanda.Sahinovic@usda.gov; Telephone: (816) 527-5379.

SUPPLEMENTARY INFORMATION: The science priority-setting process at NIFA involves soliciting stakeholder input on agricultural research, education and extension needs, obtaining input from NIFA's science staff who are informed through interactions with scientific communities, and evaluating existing programs to identify critical gaps in the current portfolio of programs in order to address challenges in U.S. agriculture.

This listening effort will allow stakeholders to provide feedback on the following questions:

• What is your top priority for research, extension or education for NIFA?

• What are the most promising opportunities/solutions for advancement of these food and agricultural priorities?

• What are the greatest challenges that you see facing food and agriculture in the coming decades, and what fundamental knowledge gaps exist that limit the ability of research, extension, and education to respond to these challenges?

• Based on those challenges, what general areas of food and agricultural research should be advanced and supported to fill the knowledge gaps, and what is your top priority for research, extension, and/or education for NIFA investment?

• How accessible do you find information about NIFA programs and activities to be?

• What can NIFA do to make information and resources more accessible?

• What is NIFA doing right and are there opportunities to improve?

NIFA welcomes stakeholder input from any group or individual interested in agricultural research, extension or education priorities for NIFA.

NIFA is eager to listen to stakeholder's comments on the challenges, needed breakthroughs, and priorities, solutions and opportunities that will facilitate long-term sustainable agricultural production, research, education and extension. Agriculture in this context is defined broadly and includes research, extension, and education in food, fiber, forestry, range, nutritional and social sciences, including food safety and positive youth development. This listening effort will focus on the agricultural science that NIFA invests in, but not primarily on NIFA processes or procedures.

Implementation Plans

Written comments by all interested stakeholders are welcomed through 5 p.m. Eastern time, November 30, 2022. All input will become a part of the official record and available on the NIFA website, https://nifa.usda.gov/nifalistens.

Stakeholder input received from the two mechanisms is treated equally. The challenges, needed breakthroughs, and priorities identified by this effort will be evaluated in conjunction with input from NIFA staff. This information will be critical for NIFA's evaluation of existing science emphasis areas and to identify investment opportunities and gaps in the current portfolio of programs. The information obtained through this iterative analysis and synthesis will help ensure the strategic positioning and relevancy of NIFA's investments in advancing agricultural research, education and extension.

Done at Washington, DC, this day of September 9, 2022.
Dionne Toombs,
Acting Director, National Institute of Food and Agriculture, U.S. Department of Agriculture.

[FR Doc. 2022-20064 Filed 9-15-22; 8:45 am]

BILLING CODE 3410-22-P